DEPARTMENT OF THE INTERIOR

Bureau of Land Management

[LLCON05000 L16100000.DT0000]

Notice of Availability of the Proposed Resource Management Plan Amendment and Final Environmental Impact Statement for Oil and Gas Development in the White River Field Office, Colorado

AGENCY: Bureau of Land Management, Interior.

ACTION: Notice of availability.

SUMMARY: In accordance with the National Environmental Policy Act of 1969, as amended (NEPA), and the Federal Land Policy and Management Act of 1976, as amended (FLPMA), the Bureau of Land Management (BLM) has prepared a Proposed Resource Management Plan (RMP) Amendment and a Final Environmental Impact Statement (EIS) for the White River Field Office (WRFO) and by this notice is announcing its availability.

DATES: The BLM planning regulations state that any person who meets the conditions as described in the regulations may protest the BLM's Proposed RMP Amendment/Final EIS. A person who meets the conditions and files a protest must file the protest within 30 days of the date that the Environmental Protection Agency publishes its Notice of Availability for this project in the Federal Register.

ADDRESSES: Copies of the WRFO Oil and Gas Development Proposed RMP Amendment/Final EIS have been sent to affected Federal, State and local government agencies, and interested parties. The Proposed RMP Amendment/Final EIS is also available on the Internet at: http://www.blm.gov/co/st/en/fo/wrfo.html, and at locations listed under the SUPPLEMENTARY INFORMATION section.

All protests must be in writing and mailed to one of the following addresses:

Regular mail: | Overnight mail:
BLM Director (210), Attention: Protest Coordinator, WO-210, P.O. Box 71383, Washington, DC 20024-1383 | BLM Director (210), Attention: Protest Coordinator, WO-210, 20 M Street SE., Room 2134LM, Washington, DC 20003.

FOR FURTHER INFORMATION CONTACT: Heather Sauls, Planning and Environmental Coordinator; telephone 970-878-3855; White River Field Office, 220 East Market Street, Meeker, CO 81641; email hsauls@blm.gov. Persons who use a telecommunications device for the deaf (TDD) may call the Federal Information Relay Service (FIRS) at 1-800-877-8339 to contact the above individual during normal business hours. The FIRS is available 24 hours a day, 7 days a week, to leave a message or question with the above individual. You will receive a reply during normal business hours.

SUPPLEMENTARY INFORMATION: The BLM prepared the WRFO Oil and Gas Development Proposed RMP Amendment/Final EIS to evaluate and amend the current management decisions for oil and gas resources within the WRFO planning area. The current management decisions for oil and gas resources are described in the White River Record of Decision and Approved Resource Management Plan (RMP), approved July 1, 1997, as amended (1997 WRFO RMP).

The Proposed RMP Amendment/Final EIS addresses public lands and resources managed by the WRFO. The WRFO planning area includes approximately 2.7 million acres of BLM, National Park Service, U.S. Forest Service, State, and private lands located in northwestern Colorado, primarily in Rio Blanco County, with additional tracts located in Moffat and Garfield counties. Within the WRFO planning area, the BLM administers approximately 1.5 million surface acres and 2.2 million acres of Federal subsurface mineral estate. Surface management decisions made as a result of this planning effort will apply only to the BLM-administered lands in the WRFO planning area. The BLM decided to update the 1997 WRFO RMP because the 2007 Reasonable Foreseeable Development Scenario identified substantial changes in the way oil and gas development is expected to proceed in the planning area compared to what was considered in the 1997 WRFO RMP. Changes include an increase in the number of wells to be drilled, a transition from single well pads to multi-well pads, and a shift in the location of development to the Mesaverde Play Area.

The purpose of the WRFO Proposed RMP Amendment/Final EIS is to provide effective management direction for public lands administered by the WRFO based on an analysis of oil and gas exploration and development activities in excess of levels evaluated in the 1997 WRFO RMP. During the development of the RMP Amendment, the BLM reviewed the decisions contained in the 1997 WRFO RMP. None of the alternatives analyzed for this amendment considered the creation of new special designations or changes to areas currently open or closed to oil and gas leasing in the 1997 WRFO approved RMP because this amendment is entirely focused on addressing oil and gas development.

The Draft RMP Amendment/EIS evaluated four alternatives in detail including, the No Action Alternative (Alternative A) and three action alternatives (Alternatives B, C and D). Based on the impacts analysis and public comment on the Draft RMP Amendment, the BLM selected various parts of Alternatives A, B, C and D to develop the Proposed RMP Amendment (Alternative E) in the Final EIS.

The Proposed RMP Amendment, Alternative E, considers impacts and management actions associated with potential development of 15,040 wells on 1,100 well pads with an associated surface disturbance of 13,200 acres. Alternative E incorporates the managed development approach from Alternatives B and C. The Proposed RMP Amendment includes the Dinosaur Trail Master Leasing Plan in the northwest corner of the field office and a plan for phased leasing within that area.

The Proposed RMP Amendment also provides management direction for more than 300,000 acres of inventoried lands with wilderness characteristics; these areas would be managed at one of three levels depending upon whether or not wilderness characteristics were the primary management focus in an area.

Because this planning effort is an amendment and not a full RMP revision, changes in management were limited to only those decisions related to oil and gas development. However, because oil and gas development has the potential to impact other resources, the BLM developed management actions designed to reduce impacts to a variety of resources, including air and water quality, soils, vegetation, wildlife habitat, special status plant habitat, wild horses, cultural resources, paleontological resources, visual resources, forestry and woodlands, livestock grazing, minerals, recreation, travel management, realty, and special designations.

Copies of the WRFO Oil and Gas Development Proposed RMP Amendment/Final EIS are available for public inspection at the Web site listed under the ADDRESSES section, and at the following locations:

• White River Field Office, 220 East Market Street, Meeker, CO 81641

• Little Snake Field Office, 455 Emerson Street, Craig, CO 81625

• Northwest District Office, 2815 H Road, Grand Junction, CO 81506

• Colorado River Valley Field Office, 2300 River Frontage Road, Silt, CO 81652

• BLM Colorado State Office, 2850 Youngfield Street, Lakewood, CO 80215

• Kremmling Field Office, 2103 East Park Avenue, Kremmling, CO 80459

• Libraries in the following Colorado locations: Rifle, Meeker, Rangely, and Craig.

Instructions for filing a protest with the Director of the BLM regarding the Proposed RMP Amendment/Final EIS may be found in the “Dear Reader” Letter of the Proposed RMP Amendment/Final EIS and at 43 CFR 1610.5-2. Emailed protests will not be accepted as valid protests unless the protesting party also provides the original letter by either regular or overnight mail postmarked by the close of the protest period. Under these conditions, the BLM will consider the emailed protest as an advance copy and it will receive full consideration. If you wish to provide the BLM with such advance notification, please direct emails to protest@blm.gov. All protests, including the follow-up letter to emails, must be in writing and mailed to the appropriate address as set forth in the ADDRESSES section above.

Before including your phone number, email address, or other personal identifying information in your protest, you should be aware that your entire protest—including your personal identifying information—may be made publicly available at any time. While you can ask us in your protest to withhold your personal identifying information from public review, we cannot guarantee that we will be able to do so.

Authority: 40 CFR 1506.6, 40 CFR 1506.10, 43 CFR 1610.2, 43 CFR 1610.5.

Ruth Welch,
BLM Colorado State Director.

[FR Doc. 2015-07013 Filed 3-26-15; 8:45 am]

BILLING CODE 4130-JB-P